DEPARTMENT OF LABOR

Employment and Training Administration

[TA-W-52,847]

Medsource Technologies, Newton, MA; Notice of Negative Determination on Reconsideration

On December 2, 2002, the Department issued an Affirmative Determination Regarding Application for Reconsideration for the workers and former workers of the subject firm. The notice will soon be published in the Federal Register.

The Department initially denied TAA to workers of MedSource Technologies, Newton, Massachusetts because there was neither an absolute decline in subject firm sales or production nor a shift of production to a qualified country. The investigation revealed neither sales or production declines nor shifts of production during the relevant time period.

In the request for reconsideration, the petitioner alleges that production shifted from the subject facility to Mexico. The petitioner provided documents to support this allegation. A careful review of the documents revealed that MedSource did plan corporation-wide shifts of production from several domestic facilities to the Mexico facility in October 2003. However, according to a company official, the shift of production from the subject facility to Mexico did not begin until December 2003, after the relevant time period.

Conclusion

After reconsideration, I affirm the original notice of negative determination of eligibility to apply for worker adjustment assistance for workers and former workers of MedSource Technologies, Newton, Massachusetts.

Signed at Washington, DC, this 9th day of December 2003.
Elliott S. Kushner,
Certifying Officer, Division of Trade Adjustment Assistance.

[FR Doc. 03-32285 Filed 12-31-03; 8:45 am]

BILLING CODE 4510-30-P